DEPARTMENT OF ENERGY

Federal Energy Regulatory Commission

[Docket No. EG00-156-000, et al.]

CED Operating Company, L.P., et al.; Electric Rate and Corporate Regulation Filings

June 2, 2000.

Take notice that the following filings have been made with the Commission:

1. CED Operating Company, L.P.

[Docket No. EG00-156-000]

Take notice that on May 25, 2000, CED Operating Company, L.P., c/o Consolidated Edison Development, Inc., 111 Broadway, 16th Floor, New York, New York 10006, filed with the Federal Energy Regulatory Commission an application for determination of exempt wholesale generator status pursuant to Part 365 of the Commission's regulations.

CED Operating Company, L.P. (CED Opco) is a Delaware limited partnership. CED Generation Holding Company, L.P., a Delaware limited liability company, (“Holdco”) owns a 99 percent limited partner's interest in Applicant. Holdco is a direct subsidiary of Consolidated Edison Development (“CED”), a New York corporation, which is a wholly-owned direct subsidiary of Consolidated Edison, Inc. (“Con Ed, Inc.”), also a New York corporation. CED Management Company, Inc., a Delaware corporation, owns a one (1) percent general partner's interest in Applicant, and is a wholly-owned subsidiary of Holdco. CED Opco will operate under an operations and maintenance agreement with the owner, a facility with a maximum capacity of approximately 238 MW located in Lakewood Township, New Jersey.

Comment date: June 23, 2000, in accordance with Standard Paragraph E at the end of this notice. The Commission will limit its consideration of comments to those that concern the adequacy or accuracy of the application.

2. Kiowa Power Partners, L.L.C.

[Docket No. EG00-157-000]

Take notice that on May 25, 2000, Kiowa Power Partners, L.LC. (the Applicant) whose address is 359 Lake Park Road, Suite 128, Lewisville, Texas 75057, filed with the Federal Energy Regulatory Commission an application for determination of exempt wholesale generator status pursuant to Part 365 of the Commission's regulations.

The Applicant states that it will be engaged directly and exclusively in the business of owning and/or operating an electric generating facility located near Kiowa, Oklahoma and selling electric energy at wholesale. The Applicant requests a determination that the Applicant is an exempt wholesale generator under Section 32(a)(1) of the Public Utility Holding Company Act of 1935.

Comment date: June 23, 2000, in accordance with Standard Paragraph E at the end of this notice. The Commission will limit its consideration of comments to those that concern the adequacy or accuracy of the application.

3. Servicios Energéticos, S.A.

[Docket No. EG00-158-000]

Take notice that on May 25, 2000, Servicios Energéticos, S.A. (the Applicant) whose address is Servicios Energéticos, S.A., Av. Hernando Siles No. 5635, Obrajes, La Paz, Bolivia, filed with the Federal Energy Regulatory Commission an application for determination of exempt wholesale generator status pursuant to Part 365 of the Commission's regulations.

The Applicant states that it will be engaged directly and exclusively in the business of owning and/or operating an electric generating facility located in the Republic of Bolivia and selling electric energy at wholesale. The Applicant requests a determination that the Applicant is an exempt wholesale generator under Section 32(a)(1) of the Public Utility Holding Company Act of 1935.

Comment date: June 23, 2000, in accordance with Standard Paragraph E at the end of this notice. The Commission will limit its consideration of comments to those that concern the adequacy or accuracy of the application.

4. Cinergy Services, Inc.

[Docket No. ER00-2625-000]

Take notice that on May 30, 2000, Cinergy Services, Inc. (Services), tendered for filing on behalf of its operating companies, The Cincinnati Gas & Electric Company and PSI Energy, Inc. (collectively Cinergy Operating Companies) a Letter Agreement, dated April 24, 2000, as a supplement to the Service Agreement No. 43, dated January 22, 1997, between Southwestern Electric Cooperative, Inc. (SWEC) and the Cinergy Operating Companies under the COC FERC Electric Market-Based Power Sales Tariff, Volume No. 7.

SWEC and the Cinergy Operating Companies have agreed to procedures for the curtailment of some of SWEC's load.

Copies of the filing were served on SWEC and the State Regulatory Commissions of Illinois, Ohio, Kentucky and Indiana.

Comment date: June 20, 2000, in accordance with Standard Paragraph E at the end of this notice.

5. Allegheny Energy Service Corporation, on behalf of Allegheny Energy Supply Company, LLC

[Docket No. ER00-2626-000]

Take notice that on May 30, 2000, Allegheny Energy Service Corporation on behalf of Allegheny Energy Supply Company, LLC (Allegheny Energy Supply) filed Amendment No. 1 to Supplement No. 12 to the Market Rate Tariff to incorporate a Settlement Procedures Agreement with Citizens Power Sales LLC into the tariff provisions.

Allegheny Energy Supply Company requests a waiver of notice requirements to make the Amendment effective as of May 23, 2000.

Copies of the filing have been provided to the Public Utilities Commission of Ohio, the Pennsylvania Public Utility Commission, the Maryland Public Service Commission, the Virginia State Corporation Commission, the West Virginia Public Service Commission, and all parties of record.

Comment date: June 20, 2000, in accordance with Standard Paragraph E at the end of this notice.

6. Duquesne Light Company

[Docket No. ER00-2627-000]

Take notice that on May 30, 2000, Duquesne Light Company (DLC) filed a Service Agreement dated May 8, 2000 with Constellation Power Source under DLC's Open Access Transmission Tariff (Tariff). The Service Agreement adds Constellation Power Source as a customer under the Tariff.

DLC requests an effective date of May 8, 2000 for the Service Agreement.

Comment date: June 20, 2000, in accordance with Standard Paragraph E at the end of this notice.

7. Broad River Energy LLC

[Docket No. ER00-2628-000]

Take notice that on May 30, 2000, Broad River Energy LLC (Broad River) tendered for filing an executed umbrella service agreement under which Broad River will make short-term market-based power sales under its Market-Based Rate Tariff, FERC Electric Tariff, Original Volume No. 1, to Carolina Power & Light Company (CP&L).

Broad River requests an effective date of June 1, 2000, for the umbrella service agreement.

Broad River states that a copy of the filing has been served on CP&L.

Comment date: June 20, 2000, in accordance with Standard Paragraph E at the end of this notice.

8. PJM Interconnection, L.L.C.

[Docket No. ER00-2629-000]

Take notice that on May 30, 2000, PJM Interconnection, L.L.C. (PJM), tendered for filing two executed umbrella service agreements for network integration transmission service under state retail access programs under the PJM Open Access Transmission Tariff with BGE Home Products & Service, Inc. and ECONnergy PA, Inc. with effective dates of May 23, 2000 and May 1, 2000, respectively.

Copies of this filing were served upon the parties to the service agreements and the state commissions within the PJM control area.

Comment date: June 20, 2000, in accordance with Standard Paragraph E at the end of this notice.

9. California Power Exchange Corporation

[Docket No. ER00-2630-000]

Take notice that on May 30, 2000, the California Power Exchange Corporation (CalPX) tendered for filing its Tariff Amendment No. 15, designed to track changes in the Payments Calendar implemented by Tariff Amendment No. 25 of the California Independent System Operator Corporation.

CalPX requests an effective date of July 24, 2000.

Comment date: June 20, 2000, in accordance with Standard Paragraph E at the end of this notice.

10. California Power Exchange Corporation

[Docket No. ER00-2631-000]

Take notice that on May 30, 2000, the California Power Exchange Corporation (CalPX) tendered for filing proposed Tariff Amendment No. 16, designed to track certain changes implemented by Tariff Amendment Nos. 25 and 28 of the California Independent System Operator Corporation (CAISO).

CalPX requests an effective date of March 27, 2000 for changes related to charges for cancellation of maintenance outages and June 15, 2000 for payments and charges related to the CAISO's Demand Relief Program.

Comment date: June 20, 2000, in accordance with Standard Paragraph E at the end of this notice.

11. California Power Exchange Corporation

[Docket No. ER00-2632-000]

Take notice that on May 30, 2000, the California Power Exchange Corporation (CalPX) tendered for filing its Tariff Amendment No. 17, designed to track the ten-minute market implemented by Tariff Amendment No. 29 of the California Independent System Operator Corporation.

CalPX requests an effective date to coincide with the effective date of CAISO's ten-minute market in its Tariff Amendment No. 29.

Comment date: June 20, 2000, in accordance with Standard Paragraph E at the end of this notice.

12. Entergy Services, Inc.

[Docket No. ER00-2633-000]

Take notice that on May 30, 2000, Entergy Services, Inc., on behalf of Entergy Louisiana, Inc., tendered for filing an Interconnection and Operating Agreement with Cleco Midstream Resources LLC (Cleco), and a Generator Imbalance Agreement with Cleco.

Comment date: June 20, 2000, in accordance with Standard Paragraph E at the end of this notice.

13. Entergy Services, Inc.

[Docket No. ER00-2634-000]

Take notice that on May 30, 2000, Entergy Services, Inc., on behalf of Entergy Mississippi, Inc., tendered for filing an Interconnection and Operating Agreement with Warren Power, LLC (Warren), and a Generator Imbalance Agreement with Warren.

Comment date: June 20, 2000, in accordance with Standard Paragraph E at the end of this notice.

14. Consumers Energy Company

[Docket No. ER00-2635-000]

Take notice that on May 30, 1999, Consumers Energy Company (Consumers) tendered for filing an executed transmission service agreement with Croswell Light & Power (Customer) pursuant to the Joint Open Access Transmission Service Tariff filed on December 31, 1996 by Consumers and The Detroit Edison Company (Detroit Edison).

The agreement has an effective date of May 5, 2000.

Copies of the filed agreement were served upon the Michigan Public Service Commission, Detroit Edison, and the Customer.

Comment date: June 20, 2000, in accordance with Standard Paragraph E at the end of this notice.

15. PJM Interconnection, L.L.C.

[Docket No. ER00-2636-000]

Take notice that on May 30, 2000, PJM Interconnection, L.L.C. (PJM), tendered for filing amendments to the service agreement for Network Integration Transmission Service for PP&L Inc. (now PPL Electric Utilities Corporation) (PPL) so as to reflect that, commencing May 1, 2000, the load of the Borough of Lewisberry, Pennsylvania (Lewisberry) will be served by PPL rather than GPU.

Copies of this filing were served upon PPL, GPU, Lewisberry, and the Pennsylvania Public Utility Commission.

PJM requests an effective date of May 1, 2000, for the amendments to the service agreements.

Comment date: June 20, 2000, in accordance with Standard Paragraph E at the end of this notice.

16. Deseret Generation & Transmission Co-operative

[Docket No. ER00-2637-000]

Take notice that on May 30, 2000, Deseret Generation & Transmission Co-operative tendered an informational filing in compliance with its rate schedules. The filing sets forth the revised approved costs for member-owned generation resources and the revised approved reimbursements under its Resource Integration Agreements with two of its members, Garkane Power Association, Inc., and Moon Lake Electric Association, Inc.

A copy of this filing has been served upon all of Deseret's members.

Comment date: June 20, 2000, in accordance with Standard Paragraph E at the end of this notice.

17. Broad River Energy LLC

[Docket No. ER00-2638-000]

Take notice that on May 30, 2000, Broad River Energy LLC (Broad River) tendered for filing Amendment Nos. 2 and 3 to the long-term market-based rate power purchase agreement between Broad River and Carolina Power & Light Company (the Agreement), which was accepted for filing by the Commission in an order dated November 23, 1999 in Docket No. ER00-38-000 (89 FERC ¶61,202).

Broad River requests an effective date concurrent with the commencement of service under the Agreement.

Broad River states that a copy of the filing has been served on Carolina Power & Light Company.

Comment date: June 20, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-14705 Filed 6-9-00; 8:45 am]

BILLING CODE 6717-01-U